DEPARTMENT OF COMMERCE

National Oceanic and Atmospheric Administration

[Docket No. 030602141-4202-09; I.D. 070804C]

Omnibus Notice Announcing the Availability of Grant Funds for Fiscal Year 2005; Addendum Additional Programs

AGENCY: Department of Commerce (DOC), National Oceanic and Atmospheric Administration (NOAA).

ACTION: Notice.

SUMMARY: NOAA publishes this notice to amend the agency's solicitation for applications published on June 30, 2004, in an action entitled “Omnibus Notice Announcing the Availability of Grant Funds for Fiscal Year 2005.” In this notice, NOAA adds five programs that are making funds available for financial assistance awards. Interested applicants should consult the June 30, 2004, notice for all of the other requirements for submitting an application.

DATES: Proposals must be received by the date and time indicated under each program listing in the SUPPLEMENTARY INFORMATION section.

ADDRESSES: Proposals must be submitted to the addresses listed in the SUPPLEMENTARY INFORMATION section for each program. The FR notices may be found on the NOAA website at http://www.ofa.noaa.gov/%7Eamd/SOLINDEX.HTML. The e-mail for Grants.gov is http:www.grants.gov.

FOR FURTHER INFORMATION CONTACT: For a copy of the prior published Omnibus Federal Register Notice, the full funding opportunity announcement and/or application, please access it via Grants.Gov at http://www.grants.gov or contact the person listed as the information contact under each program.

SUPPLEMENTARY INFORMATION: In this notice, NOAA adds five programs that are making funds available for financial assistance awards. Interested applicants should consult the June 30, 2004 (69 FR 39417) notice for all of the other requirements for submitting an application. This omnibus notice describes funding opportunities for the following NOAA discretionary grant programs:

NOAA Project Competitions

National Marine Fisheries Service

1. Marine Fisheries Initiative (MARFIN), Research and Development Projects in the Gulf of Mexico and off the U.S. South Atlantic Coastal States

2. Cooperative Research Program, Research and Development Projects in the Gulf of Mexico and off the U.S. South Atlantic Coastal States

Oceanic and Atmospheric Research

National Sea Grant College Program

1. Ballast Water Technology Demonstration Program

2. National Strategic Investment in Aquatic Invasive Species Research and Outreach

National Weather Service

IFLOWS-Integrated Flood Observing and Warning System (IFLOWS) Program

NOAA Project Competitions

National Marine Fisheries Service

1. Marine Fisheries Initiative (MARFIN), Research and Development Projects in the Gulf of Mexico and off the U.S. South Atlantic Coastal States

Summary Description: The NMFS Southeast Regional Office is inviting the public to submit research and development projects that will optimize the use of fisheries in the Gulf of Mexico and off the South Atlantic states of North Carolina, South Carolina, Georgia, and Florida involving the U.S. fishing industry (recreational and commercial), including fishery biology, resource assessment, socioeconomic assessment, management and conservation, selected harvesting methods, and fish handling and processing. Proposals may be selected for funding for up to three years through a cooperative agreement.

Funding Availability: Approximately $2.5 million may be available in fiscal year (FY) 2005 for projects. This amount includes possible in-house projects. The NMFS Southeast Regional Office anticipates that typical project awards will range from $30,000 to $300,000. The average award is $78,950.

Statutory Authority: We are soliciting applications for Federal assistance pursuant to 15 U.S.C. 713c-3(d).

CFDA: 11.433 Marine Fisheries Initiative.

Application Deadline: We must receive your application by close of business (5 p.m. eastern daylight time) on August 30, 2004. Applications will be date stamped to show date and time received. Applications received after that time will not be considered for funding.

Address for Submitting Proposals: You can obtain an application package from, and send your completed application(s) to: National Marine Fisheries Service, State/Federal Liaison office, 9721 Executive Center Drive N., St. Petersburg, FL 33702. You may also obtain the application package from the MARFIN Home Page at: http://caldera.sero.nmfs.gov/grants/programs/marfin.htm

Information Contact(s):Ellie Francisco Roche, Chief, State/Federal Liaison Office at (727) 570-5324.

Eligibility: Eligible applicants include: Institutions of higher education, other nonprofits, commercial organizations, state, local and Indian tribal governments. Federal agencies or institutions are not eligible. Foreign governments, organizations under the jurisdiction of foreign governments, and international organizations are excluded for purposes of this solicitation since the objective of the MARFIN program is to optimize research and development benefits from U.S. marine fishery resources.

Cost Sharing Requirements: Cost-sharing is not required.

Intergovernmental Review: Applications under this program are subject to Executive Order 12372, “Intergovernmental Review of Federal Programs.”

2. Cooperative Research Program, Research and Development Projects in the Gulf of Mexico and off the U.S. South Atlantic Coastal States

Summary Description: The NMFS Southeast Regional Office is inviting the public to submit research and development projects that seek to increase and improve the working relationship between researchers from the NMFS, state fishery agencies, universities, and fishermen. The program is a means of involving commercial and recreational fishermen in the collection of fundamental fisheries information. Collection efforts support the development and evaluation of management and regulatory options. Projects accepted for funding will need to be completed within 24 months.

Funding Availability: Approximately $2.0 million may be available in fiscal year (FY) 2005 for projects. The NMFS Southeast Regional Office anticipates that typical project awards will range from $45,000 to $480,000. The average award is $190,000.

Statutory Authority: We are soliciting applications for Federal assistance pursuant to 15 U.S.C. 713c-3(d).

CFDA: 11.454 Unallied Management Projects.

Application Deadline: We must receive your application by close of business (5 p.m. eastern daylight time) on September 13, 2004. Applications will be date stamped to show date and time received. Applications received after that time will not be considered for funding.

Address for Submitting Proposals: You can obtain an application package from, and send your completed application(s) to: National Marine Fisheries Service, State/Federal Liaison office, 9721 Executive Center Drive N., St. Petersburg, FL 33702. You may also obtain the application package from the CRP homepage at: http://caldera.sero.nmfs.gov/grants/programs/crp.htm.

Information Contact(s):Ellie Francisco Roche, Chief, State/Federal Liaison Office at (727) 570-5324.

Eligibility: Eligible applicants include: Institutions of higher education, other nonprofits, commercial organizations, state, local and Indian tribal governments and individuals. Federal agencies or institutions are not eligible. Foreign governments, organizations under the jurisdiction of foreign governments, and international organizations are excluded for purposes of this solicitation since the objective of the CRP is to optimize research and development benefits from U.S. marine fishery resources.

Applicants who are not commercial or recreational fisherman must have commercial or recreational fishermen participating in their project. There must be a written agreement with a fisherman describing the involvement in the project activity.

Cost Sharing Requirements: Cost-sharing is not required.

Intergovernmental Review: Applications under this program are subject to Executive Order 12372, “Intergovernmental Review of Federal Programs.”

Oceanic and Atmospheric Research

National Sea Grant College Program

1. Ballast Water Technology Demonstration Program

Summary Description: NOAA, the U.S. Fish and Wildlife Service, and the U.S. Maritime Administration expect to entertain proposals to conduct ballast water treatment technology testing and demonstration projects. The Ballast Water Technology Demonstration Program supports projects to develop, test, and demonstrate technologies that treat ships' ballast water in order to reduce the threat of introduction of aquatic invasive species to U.S. waters through the discharge of ballast water.

Funding Availability: Depending on 2005 appropriations, NOAA and the U.S. Fish and Wildlife Service expect to make available up to about $2 million in FY 2005, and the U.S. Maritime Administration expects to make available several vessels for use as test platforms, support ballast water treatment technology demonstration projects. The maximum amount of award will vary with the scale of the proposed project. If $2 million is made available, approximately 8 grants with a median value of about $200,000 are anticipated to be awarded.

Statutory Authority: Statutory authority for this program is provided under 16 U.S.C. 4701 et seq.; 33 U.S.C. 1121-1131; 46 U.S.C. App 1211 (2000); 50 U.S.C. App 1744 (2000).

Catalog of Federal Domestic Assistance (CFDA) Number: 11.417, Sea Grant Support; 15.FFA Fish and Wildlife Management Assistance.

Application Deadline: Pre-proposals must be received by the National Sea Grant Office by 4 p.m. EDT on August 27, 2004, and by 4 p.m. EST on November 16, 2004 for full proposals.

Addresses for Submitting Proposals: Pre-proposals and full proposals must be submitted to the National Sea Grant Office, Attn: Mrs. Geraldine Taylor, SG-Ballast Water, 1315 East-West Highway, R/SG, Rm 11732, Silver Spring, MD 20910. Telephone number for express mail applications is 301-713-2445.

Information Contact(s): Dorn Carlson, NOAA National Sea Grant Office, 301-713-2435; via internet at Dorn.Carlson@noaa.gov; or Pamela Thibodeaux, U.S. Fish and Wildlife Service, 703-358-2493; via internet at Pamela_Thibodeaux@fws.gov; or Deborah Aheron, U.S. Maritime Administration, 202-366-8887; via internet at Deborah.Aheron@marad.dot.gov. Further information can be obtained from the above information contacts, or on the Ballast Water Program website, http://www.nsgo.seagrant.org/research/nonindigenous/ballast.

Eligibility: Individuals, institutions of higher education, nonprofit organizations, commercial organizations, Federal, State, local and Indian tribal governments, foreign governments, organizations under the jurisdiction of foreign governments, and international organizations are eligible. Only those who submit pre-proposals by the deadline are eligible to submit full proposals.

Cost Sharing Requirements: None.

Intergovernmental Review: Applications under this program are not subject to Executive Order 12372, “Intergovernmental Review of Federal Programs.”

2. National Strategic Investment in Aquatic Invasive Species Research and Outreach

Summary Description: The National Sea Grant College Program seeks to fund research and outreach projects addressing the introduction and spread of aquatic invasive species. The goal of the program is to discover and develop information and tools that can lead to the prevention, monitoring and control of aquatic invasive species threatening United States coastal, oceanic and Great Lakes communities, resources and ecosystems. Appropriate areas of research may include: biology and life history research, population dynamics, genetics, physiology, behavior, and parasites and diseases of nonindigenous species, ecological and environmental tolerances of nonindigenous species, impacts of invasive species at each stage of their life history on the environment, resources, and human health, research into invasive species control measures (engineering, physical, chemical, biological, physicochemical, administrative, and educational), and economic impact analysis of invasive species on marine and coastal resources, sport, commercial and tribal fisheries, the recreation and tourism industry, the shipping and navigation industry, and municipal and industrial water users. Other appropriate areas of endeavor may include: use of research results to provide a scientific basis for developing sound policy and environmental law, public education and technology transfer, research and outreach into identifying vectors of ANS introduction, and education and outreach activities that will transfer this information to the appropriate users.

Funding Availability: Depending on the overall funding appropriation for the National Sea Grant College Program, about $3,900,000 is anticipated to be available to support invasive species research projects, and about $1,700,000 to support invasive species outreach projects, in FY 2005 and FY 2006. Funding will be limited to $150,000 per year for a maximum of two years' duration.

Statutory Authority: Statutory authority for this program is provided under 33 U.S.C. 1121-1131.

Catalog of Federal Domestic Assistance (CFDA) Number: 11.417, Sea Grant Support.

Application Deadline: Pre-proposals must be received by a state Sea Grant Program (or by the National Sea Grant Office in the case of an applicant in a non-Sea Grant state) by 4 p.m. (local time) on August 27, 2004, and by 4 p.m. (local time) on November 16, 2004 for full proposals. State Sea Grant Programs are to forward all proposals received by the above deadlines to the National Sea Grant Office by 4 p.m. EDT on September 2, 2004 and full-proposals by 4 p.m. EST November 23, 2004.

Addresses for Submitting Proposals: Pre-proposals and full proposals from Sea Grant states must be submitted to the state Sea Grant Program. The addresses of the state Sea Grant Programs may be found at http://www.nsgo.seagrant.org/SGDirectors.html. Pre-proposals and full proposals from non-Sea Grant states may be submitted either to the nearest state Sea Grant Program or directly to the National Sea Grant Office, Attn: Mrs. Geraldine Taylor, SG-Invasive Species, 1315 East-West Highway, R/SG, Rm 11732, Silver Spring, MD 20910. Telephone number for express mail applications is 301-713-2445.

Information Contact(s): Dorn Carlson, NOAA National Sea Grant Office, 301-713-2435; via internet at Dorn.Carlson@noaa.gov.

Eligibility: Individuals, institutions of higher education, nonprofit organizations, commercial organizations, State, local and Indian tribal governments, foreign governments, and international organizations are eligible. Only those who submit pre-proposals by the deadline are eligible to submit full proposals.

Cost Sharing Requirements: Applicants are required to provide one dollar non-Federal funds for every two dollars of Federal funds.

Intergovernmental Review: Applications under this program are not subject to Executive Order 12372, “Intergovernmental Review of Federal Programs.”

National Weather Service

IFLOWS - Integrated Flood Observing and Warning System (IFLOWS) Program

Summary Description: The NWS is soliciting requests to provide capital funds for the creation, refurbishment, or replacement of Automated Flood Warning Systems (AFWS). The IFLOWS Program is a joint undertaking by the National Weather Service (NWS) and participating States to improve flood warning capabilities. The NWS provides technical support and funds for initial capital and installation costs for equipment, life-cycle equipment replacement or upgrading in coming years, software development, and centralized forecast and analysis activities.The expected period of performance is for one year with an anticipated start date of April 1, 2005. NOAA/NWS will partner with entities that can demonstrate a long-term ability to operate and maintain an AFWS and provide the data to the NWS.

Funding Availability: Approximately $500,000 will be available through this announcement for fiscal year 2005. Proposals should be prepared assuming an annual budget of no more than $100,000.Statutory Authority: 15 USC 313; 33 USC 883d; 49 USC 44720 (b). CFDA: 11.450, Integrated Flood Observing and Warning System.

Application Deadline: Proposals must be received by the NWS no later than 5 P.M., local time, October 21, 2004.

Address for Submitting Proposals: NOAA/NWS; 1325 East-West Highway, Room 13396; Silver Spring, Maryland 20910-3283.

Information Contact(s): John Bradley, NOAA/NWS; 1325 East-West Highway, Room 13396; Silver Spring, Maryland 20910-3283, or by phone at 301-713-0624 ext. 154, or fax to 301-713-1520, or via internet at john.bradley@noaa.gov.

Eligibility: Eligible applicants are institutions of higher education, other nonprofits, and, state, local and Indian tribal governments.

Cost Sharing Requirements: None. However, applicant resource commitment will be considered in the competitive selection process.

Intergovernmental Review: Applications under this program are not subject to Executive Order 12372, “Intergovernmental Review of Federal Programs.”

Limitation of Liability

Funding for programs listed in this notice is contingent upon the availability of Fiscal Year 2005 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, Vol. 67, No. 210, pp. 66177B66178 for additional information. Organizations can receive a DUNS number at no cost by calling the dedicated toll-free DUNS Number request line at 1-866-705-5711 or via the internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/ , including our NOAA Administrative Order 216-6 for NEPA, http://www.nepa.noaa.gov/NAO216_6_TOC.pdf, and the Council on Environmental Quality implementation regulations, http://ceq.eh.doe.gov/nepa/regs/ceq/toc_ceq.htm ).

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

The Department of Commerce Pre-Award Notification Requirements for Grants and Cooperative Agreements. The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424 and 424A,424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132. Administrative Procedure Act/ Regulatory Flexibility Act Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 8, 2004.
Richard N. Bennett,
Acting Director, Acquisition and Grants Office, National Oceanic and Atmospheric Administration.

[FR Doc. 04-15975 Filed 7-13-04; 8:45 am]

BILLING CODE 3510-12-S